DEPARTMENT OF THE TREASURY

Submission for OMB Review; Comment Request

July 11, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 18, 2006 to be assured of consideration.

Federal Consulting Group

OMB Number: 1505-0146.

Type of Review: Extension.

Title: Survey of U.S. Ownership of Foreign Securities.

Description: The survey will collect information on U.S. holdings of foreign securities. The information will be used in the computation of the U.S. balance of payments accounts and international investment positions, as well as in the formulation of U.S. financial and monetary policies. This survey is also part of an international effort coordinated by the IMF to improve worldwide balance of payments statistics. Respondents are primarily the largest banks, securities, dealers, and investors.

Respondents: Business or other-for-profit; Not-for-profit institutions.

Estimated Total Reporting Burden: 40,740 hours.

Clearance Officer: Office of Foreign Assets Control, Department of the Treasury, 1500 Pennsylvania Avenue, NW., Annex-2nd Floor, Washington, DC 20220, (202) 622-2500.

OMB Reviewer: Alexander T. Hunt, Office of Management and Budget, Room 10235, New Executive Office Building, Washington, DC 20503, (202) 395-7316.

Robert Dahl,
Treasury PRA Clearance Officer.

[FR Doc. E6-11392 Filed 7-18-06; 8:45 am]

BILLING CODE 4810-25-P